DEPARTMENT OF THE INTERIOR

Bureau of Indian Affairs

Request to Office of Management and Budget for Reinstatement of Agency Information Collection for Indian Self-Determination and Education Assistance Contracts; Correction

AGENCY: Bureau of Indian Affairs, Interior.

ACTION: Notice; correction.

SUMMARY: The Bureau of Indian Affairs published a document in the Federal Register of June 29, 2000, concerning a submission to the Office of Management and Budget (OMB) of a request for reinstatement of OMB No. 1076-0136, “Indian Self-Determination and Education Assistance Act Programs.” This correction adds the following sentences that were omitted in the notice.

FOR FURTHER INFORMATION CONTACT: James Thomas, 202-208-5727.

Correction

In the Federal Register of June 29, 2000, in FR Doc. 00-16429, on page 40113, in the second column, add at the end of the second paragraph the following:

A notice requesting comments was published in the Federal Register on May 14, 1999 (64 FR 26427) and none were received.

On page 40113, in the third column, add at the end of the second paragraph the following:

Responses to this information collection are to obtain or retain a benefit.

Dated: July 21, 2000.
Kevin Gover,
Assistant Secretary—Indian Affairs.

[FR Doc. 00-18961 Filed 7-26-00; 8:45 am]

BILLING CODE 4310-02-P